DEPARTMENT OF LABOR

Employment and Training Administration

[TA-W-70,227]

Meridian Automotive Systems, Grand Rapids, MI; Notice of Termination of Investigation

Pursuant to Section 223 of the Trade Act of 1974, as amended, an investigation was initiated in response to a petition filed on May 19, 2009 by a company official on behalf of workers of Meridian Automotive Systems, Grand Rapids, Michigan (Meridian Automotive).

The petitioning group of workers is covered by an active certification, (TA-W-70,766) which expires on July 6, 2011. Consequently, further investigation in this case would serve no purpose, and the investigation has been terminated.

Signed at Washington, DC, this 4th day of February 2010.
Richard Church,
Certifying Officer, Division of Trade Adjustment Assistance.

[FR Doc. 2010-5342 Filed 3-11-10; 8:45 am]

BILLING CODE 4510-FN-P